DEPARTMENT OF HOMELAND SECURITY

Federal Emergency Management Agency

44 CFR Part 67

[Docket No. FEMA-B-7700]

Proposed Flood Elevation Determinations

AGENCY: Federal Emergency Management Agency, DHS.

ACTION: Proposed rule.

SUMMARY: Technical information or comments are requested on the proposed Base (1% annual chance) Flood Elevations (BFEs) and proposed BFE modifications for the communities listed below. The BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: William R. Blanton, Jr., Engineering Management Section, Mitigation Division, Federal Emergency Management Agency, 500 C Street, SW., Washington, DC 20472, (202) 646-3151.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State or regional entities. These proposed elevations are used to meet the floodplain management requirements of the NFIP and are also used to calculate the appropriate flood insurance premium rates for new buildings built after these elevations are made final, and for the contents in these buildings.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This proposed rule is not a significant regulatory action under the criteria of section 3(f) of Executive Order 12866 of September 30, 1993, Regulatory Planning and Review, 58 FR 51735.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

State | City/town/county | Source of flooding | Location | #Depth in feet above ground. *Elevation in feet (NGVD) +Elevation in feet (NAVD): Existing | #Depth in feet above ground. *Elevation in feet (NGVD) +Elevation in feet (NAVD): Modified
Town of Austin, Arkansas
AR | Town of Austin | Unnamed Creek | Approximately 1,500 feet downstream of Ed Haymes Road | None | +235
|  | Approximately 3000 feet upstream from Ed Haymes Road | None | +269
*National Geodetic Vertical Datum.
#Depth in feet above ground.
+North American Vertical Datum.
ADDRESSES
Town of Austin
Maps are available for inspection at City Hall, 202 W Hendricks, Austin, AR 72007.
Send comments to The Honorable Bernie Chamberlain, Mayor, City of Austin, PO Box 129, Austin, AR 72007.

Flooding source(s) | Location of referenced elevation | * Elevation in feet (NGVD) + Elevation in feet (NAVD) # Depth in feet above ground.: Effective ¹ | * Elevation in feet (NGVD) + Elevation in feet (NAVD) # Depth in feet above ground.: Modified | Communities affected
Lowndes County, Georgia, and Incorporated Areas
Sugar Creek | At confluence with Withlacoochee River | +132 | +131 | Lowndes County (Unincorporated Areas), City of Valdosta.
| Approximately 175 feet downstream of Gornto Road | +132 | +131
Two Mile Branch | At confluence with Sugar Creek | +132 | +131 | Lowndes County (Unincorporated Areas), City of Valdosta.
| Approximately 1,800 feet upstream of confluence with Sugar Creek | +132 | +131
Withlacoochee River | Approximately 9,250 feet downstream of State Highway 31 | None | +90 | Lowndes County (Unincorporated Areas).
| Approximately 4,950 feet upstream of abandoned railroad | None | +97
* National Geodetic Vertical Datum.
# Depth in feet above ground.
+ North American Vertical Datum.
¹ The existing elevation data included on the effective FIRM is printed in the elevation datum of the National Geodetic Vertical Datum of 1929 (NGVD29). In order to convert this printed elevation data from the NGVD29 datum to the NAVD88 datum, please subtract 0.684 feet.
ADDRESSES
Lowndes County (Unincorporated Areas)
Maps are available for inspection at the County Office, 325 West Savannah Avenue, Valdosta, Georgia 31601.
Send comments to Mr. Joseph D. Pritchard, County Manager, 325 West Savannah Avenue, Valdosta, Georgia 31601.
City of Valdosta
Maps are available for inspection at the County Office, 327 West Savannah Avenue, Valdosta, Georgia 31601.
Send comments to The Honorable John J. Fretti, Mayor, City of Valdosta, 216 East Central Avenue, Valdosta, Georgia 31603.

Flooding source(s) | Location of referenced elevation | * Elevation in feet (NGVD) + Elevation in feet (NAVD) # Depth in feet above ground.: Effective | * Elevation in feet (NGVD) + Elevation in feet (NAVD) # Depth in feet above ground.: Modified | Communities affected
East Baton Rouge Parish, Louisiana and Incorporated Areas
Bayou Duplantier and Corporation Canal | Confluence with Dawson Creek | *27 | +25 | East Baton Rouge Parish.
| Intersection with Nicholson Drive on-ramp | None | +29
Bayou Fountain | Confluence with Bayou Manchac | *15 | +14 | East Baton Rouge Parish.
| 500 feet upstream from the intersection with Nicholson Drive | *24 | +23
Bayou Fountain North Branch | Confluence with Bayou Fountain | *20 | +21 | East Baton Rouge Parish.
| Approximately 2100 feet upstream from the intersection with Nicholson Drive (at pedestrian bridge) | None | +22
Bayou Fountain South Branch | Confluence with Bayou Fountain | *24 | +23 | East Baton Rouge Parish.
| Approximately 2100 feet upstream from the intersection with Gourrier Ave | *25 | +24
Bayou Fountain Tributary 1 | Upstream face—Fulmer Skipwith Road | *17 | +16 | East Baton Rouge Parish.
| Approximately 1200 feet upstream from the intersection with Highland Road | *17 | +18
Clay Cut Bayou | Approximately 4400 feet downstream from Tiger Bend Road | *27 | +26 | East Baton Rouge Parish.
| Approximately 600 feet upstream from the intersection with Bluebonnet Road | None | +32
Dawson Creek | Confluence with Ward's Creek | *25 | +24 | East Baton Rouge Parish.
| Approximately 1200 feet upstream from the intersection with Clay Cut Road | *37 | +36
Elbow Bayou | Upstream face of Illinois Central Railroad | *20 | +18 | East Baton Rouge Parish.
| Approximately 3.1 miles upstream from Ben Hur Road | None | +21
Jacks Bayou | Confluence with Clay Cut Bayou | *29 | +30 | East Baton Rouge Parish.
| Approximately 2400 feet upstream from the intersection with Parkforest Drive | *41 | +37
Mississippi River | Intersection of Bluebonnet Blvd. and Nicholson Dr. (East Baton Rouge Parish limits) | None | +42 | East Baton Rouge Parish
| Mississippi River west of W. Mount Pleasant Road (East Baton Rouge Parish limits) | None | +52
Mississippi River | West of W. Mount Pleasant Road (East Baton Rouge Parish Boundary) | None | +42
| At confluence of Mississippi River and Bayou Manchac (East Baton Rouge Parish Boundary) | None | +52
North Branch | Confluence with Wards Creek | *30 | +29 | East Baton Rouge Parish.
Wards Creek | Approximately 1100 feet upstream from the intersection with Connells Village Lane | *43 | +44
South Canal Diversion | Approximately 2300 feet upstream from the intersection with Plank Road | *83 | +82 | East Baton Rouge Parish, City of Baker.
| Approximately 2300 feet upstream from the intersection with Plank Road | *83 | +82
East Baton Rouge Parish | East Baton Rouge Parish | None | +16 | East Baton Rouge Parish.
| Approximately 2300 feet upstream from the intersection with Elvin Drive | None | +16
Unnamed Tributary to North Branch Wards Creek (Harelson Lateral) | Confluence with North Branch Wards Creek | None | +40 | East Baton Rouge Parish.
| Confluence with North Branch Wards Creek | None | +43
Upper Cypress Bayou | Approximately 2800 feet upstream from the intersection with Heck Young Rd | *80 | +81 | City of Zachary.
| Approximately 100 feet downstream from the intersection with Rollins Road | *97 | +94
Upper White Bayou | Confluence with South Canal | *81 | +82 | City of Zachary, East Baton Rouge Parish.
| Approximately 2700 feet upstream from Old Scenic Highway | None | +119
Wards Creek | Confluence with Bayou Manchac | None | +18 | East Baton Rouge Parish.
| Approximately 100 feet upstream from the intersection with Choctaw Drive | None | +51
Weiner Creek | Confluence with Jones Creek | *40 | +39 | East Baton Rouge Parish.
| Approximately 1100 feet upstream from the intersection with Church Entrance Road | None | +42
* National Geodetic Vertical Datum.
# Depth in feet above ground.
+ North American Vertical Datum.
ADDRESSES
City of Baker
Maps are available for inspection at City Hall, 3325 Groom Road, Baker, LA 70714.
Send comments to The Honorale Harold Rideau, Mayor, City of Baker, P.O. Box 707, Baker, LA 70714.
City of Zachary
Maps are available for inspection at City Hall, 4650 Main Street, Zachary, LA 70791.
Send comments to The Honorable Charlene Smith, Mayor, City of Zachary, P.O. Box 310, Zachary, LA 70791.
East Baton Rouge Parish
Maps are available for inspection at 4th Floor Municipal Building, 300 North Blvd, Baton Rouge, LA 70802.
Send comments to The Honorable Melvin L. Holden, Mayor-President, P.O. Box 1471, Baton Rouge, LA 70821.
Columbia County, Pennsylvania, and Incorporated Areas
Briar Creek | Approximately 130 feet downstream of U.S. Route 11 (West Front Street) | *492 | +492 | Borough of Briar Creek.
| Approximately 2350 feet downstream of U.S. Route 11 (West Front Street) | *492 | +492
Catawissa Creek | Approximately at 1100 feet downstream of Second Street | *474 | +476 | Borough of Catawissa.
| Approximately 200 feet upstream of Numidia Drive | *476 | +476
Fishing Creek | Approximately 2180 feet downstream of Covered Bridge No. 56 | *477 | +479 | Town of Bloomsburg, Township of Montour.
| Approximately 2800 feet upstream of Red Mill Road | *480 | +480
Hemlock Creek | Approximately 650 feet downstream of Legislative Route 19010 (Perry Avenue) | *478 | +479 | Hemlock Township of, Township of Montour.
| Approximately at 510 feet upstream of Legislative Route 19100 (Perry Avenue) | *478 | +480
Kinney Run | Approximately at 900 feet downstream of the confluence with Tributary No. 1 to Kinney Run, at Scott Township corporate limit | *480 | +481 | Township of Scott.
| Approximately at 250 feet upstream of the confluence with Tributary No. 2 to Kinney Run | *482 | +481
Roaring Creek | Approximately 1320 feet downstream of Legislative Route 19011 (Mount Zion Rd.) | *468 | +470 | Township of Franklin.
| Approximately 1020 feet upstream of Legislative Route 19011 (Mount Zion Rd.) | *468 | +470
Susquehanna River | Approximately 3.5 miles downstream of Rupert Drive | *467 | +470 | Borough of Berwick, Borough of Briar Creek.
| Approximately 1200 feet upstream of Route 93 | *500 | +500 | Borough of Catawissa, Town of Bloomsburg, Township of Catawissa, Township of Franklin, Township of Main, Township of Mifflin, Township of Montour, Township of Scott, Township of South Centre.
Tributary No. 1 to Catawissa Creek | Approximately 240 feet downstream of State Route 42 | *476 | +476 | Borough of Catawissa.
| Approximately 85 feet downstream of State Route 42 | *476 | +476
Tributary No. 1 to Kinney Run | Approximately 1530 feet downstream of U.S. Route 11 (New Berwick Hwy) | *480 | +481 | Township of Scott.
| Approximately 638 feet downstream of U.S. Route 11 (New Berwick Hwy) | *480 | +481
Tributary No. 10 to Susquehanna River | Approximately 450 feet downstream of Old Berwick Road | *482 | +483 | Township of Scott.
| Approximately 590 feet upstream of Tractor Road | *484 | +483
Tributary No. 11 to Susquehanna River | Approximately 960 feet downstream of Old Berwick Road | *484 | +485 | Township of South Centre.
| Just upstream of Old Berwick Road | *484 | +485
Tributary No. 12 to Susquehanna River | Approximately 1508 feet downstream of Legislative Route 19117 (Old Berwick Road) | *487 | +487 | Township of South Centre.
| Approximately 1130 feet downstream of Legislative Route 19117 (Old Berwick Road) | *487 | +487
Tributary No. 13 to Susquehanna | Approximately 980 feet downstream of State Road 339 | *488 | +489 | Township of Mifflin.
| Approximately 600 feet downstream of State Road 339 | *488 | +489
* National Geodetic Vertical Datum.
# Depth in feet above ground.
+ North American Vertical Datum.
ADDRESSES
Borough of Berwick
Maps are available for inspection at 344 Market Street, Berwick, PA 18603.
Send comments to The Honorable Gary Pinterich, President of Borough Council, 344 Market Street, Berwick, PA 18603.
Borough of Briar Creek
Maps are available for inspection at 6029 Park Road, Berwick, PA 18603.
Send comments to The Honorable Bruce Michael, Rittenhouse Mill Road, Berwick, PA 18603.
Borough of Catawissa
Maps are available for inspection at 307 Main Street, Catawissa, PA 17820.
Send comments to The Honorable George Romania, 195 5th Street, Catawissa, PA 17820.
Township of Hemlock
Maps are available for inspection at 26 Firehall Road, Bloomsburg, PA 17815.
Send comments to Mr. Albert L. Hunsinger, Chairman of Board of Supervisors, 26 Firehall Road, Bloomsburg, PA 17815.
Town of Bloomsburg
Maps are available for inspection at 301 East Second Street, Bloomsburg, PA 17815.
Send comments to The Honorable Claude Renninger, Mayor, 301 East Second Street, Bloomsburg, PA 17815.
Township of Catawissa
Maps are available for inspection at 153 Old Reading Road, Catawissa, PA 17820.
Send comments to Mr. James Molick, Chairman of Board of Supervisors, 6 Meadow Road, Catawissa, PA 17820.
Township of Franklin
Maps are available for inspection at 277 Long Woods Road, Catawissa, PA 17820.
Send comments to Mr. Edwin F. Lease, Chairman of Board of Supervisors, 260 Orchard Drive, Catawissa, PA 17820.
Township of Main
Maps are available for inspection at 345 Church Road, Bloomsburg, PA 17815.
Send comments to Mr. Tom Shuman, Supervisor, 345 Church Road, Bloomsburg, PA 17815.
Township of Mifflin
Maps are available for inspection at P.O. Box 359, Mifflinville, PA 18631.
Send comments to Mr. Ricky Lee Brown, Chairman Of Board of Supervisors, P.O. Box 359, Mifflinville, PA 18631.
Township of Montour
Maps are available for inspection at 195 Rupert Drive, Bloomsburg, PA 17815.
Send comments to Mr. Elmer F. Folk, Chairman of Board of Supervisors, 195 Rupert Drive, Bloomsburg, PA 17815.
Union County, Pennsylvania, and Incorporated Areas
Buffalo Creek | Approximately at Mill Road | *462 | +461 | Township of Kelly.
| Approximately 1950 feet downstream of Strawbridge Road | *463 | +462
* National Geodetic Vertical Datum.
# Depth in feet above ground.
+ North American Vertical Datum.
ADDRESSES
Township of Kelly
Maps are available for inspection at 551 Zeigler Rd, Lewisburg, PA 17837.
Send comments to Mr. David S. Hassenplug, Chairman of Board of Supervisors, 551 Zeigler Rd, Lewisburg, PA 17837.
Blount County, Tennessee and Incorporated Areas
Brown Creek | At confluence with Pistol Creek | None | +880 | City of Maryville.
| At Grandview Dr | None | +961
Cross Creek | At confluence with Pistol Creek | None | +956 | City of Maryville.
| At Oxford Hills Dr | None | +1002
Culton Creek | At confluence with Pistol Creek | None | +848 | City of Alcoa, Blount County (Unincorporated Areas), City of Maryville.
| At Middlesettlements Rd | None | +858
Duncan Branch | At U.S. 129 bypass | None | +906 | City of Maryville.
| At confluence with Brown Creek | None | +929
Laurel Bank Branch | At Middlesettlements Rd | None | +856 | Blount County (Unincorporated Areas), City of Maryville.
| At Big Springs Rd | None | +871
Little River | At Wildwood Bridge | None | +859 | Blount County (Unincorporated Areas), City of Townsend.
| At Webb Road | None | +1045
Pistol Creek | At Carpenter's Grade Rd | None | +957 | City of Alcoa.
| At Campground Bridge/Davey Crockett Drive | None | +1112
Russell Branch | At Confluence with Little River | None | +826 | City of Rockford.
| At Wright Rd | None | +911
Springfield Branch | At Eagleton Rd | None | +846 | City of Maryville.
| At Old Knoxville Pike | None | +869
Unnamed Tributary to Brown Creek | At confluence with Brown Creek | None | +919 | City of Maryville.
| At Amerine Rd | None | +1002
Unnamed Tributary to Laurel Bank Branch | At confluence with Laurel Bank Branch | None | +871 | Blount County (Unincorporated Areas), City of Maryville.
| At U.S. Hwy 129 | None | +1008
Unnamed Tributary To Springfield Branch | At confluence with Springfield Branch | None | +842 | City of Maryville.
| At Harding St | None | +859
* National Geodetic Vertical Datum.
# Depth in feet above ground.
+ North American Vertical Datum.
ADDRESSES
Unincorporated Areas of Blount County
Maps are available for inspection at: Blount County Zoning Department, 1006 East Lamar Alexander Parkway, Maryville, Tennessee 37804.
Send comments to the Honorable Beverly Woodruff, Mayor, Blount County, 341 Court Street, Maryville, TN 37804.
City of Alcoa
Maps are available for inspection at: City of Alcoa Planning And Codes Department, 223 Associate Blvd., Alcoa, Tennessee 37701.
Send comments to the Honorable Donald Mull, Mayor, City of Alcoa, 223 Associate Blvd., Alcoa, TN 37014.
City of Maryville
Maps are available for inspection at: City of Maryville Engineering Department, 416 West Broadway Avenue, Maryville, Tennessee 37801.
Send comments to the Honorable Joe Sawnn, Mayor, City of Maryville, 416 West Broadway Avenue, Maryville, TN 37932.
City of Rockford
Maps are available for inspection at: Rockford Town Hall, 3719 Little River Road, Rockford, Tennessee 37853.
Send comments to the Honorable Steve Simon, Mayor, City of Rockford, 3719 Little River Road, Rockford, TN 37853.
City of Townsend
Maps are available for inspection at: Townsend City Hall, 133 Tiger Drive, Townsend, Tennessee 37882.
Send comments to the Honorable Kenneth Myers, Mayor, City of Townsend, 133 Tiger Drive, Townsend, TN 37882.
McMinn County, Tennessee and Incorporated Areas
Guthrie Creek | At confluence with North Mouse Creek | None | +822 | McMinn County (Unincorporated Areas).
| At County Highway 172 | None | +822
Forest Branch | At North Jackson Street | None | +952 | City of Athens.
| At North Avenue | None | +962
* National Geodetic Vertical Datum.
# Depth in feet above ground.
+ North American Vertical Datum.
ADDRESSES
Unincorporated Areas of McMinn County, Tennessee
Maps are available for inspection at: McMinn County Mayor's Office, 6 East Madison Avenue, Athens, Tennessee 37303.
Send comments to: The Honorable John Gentry, Mayor, McMinn County, 6 West Mason Avenue, Athens, Tennessee 37303.
City of Athens
Maps are available for inspection at: City of Athens GIS Department, 815 North Jackson Street, Athens, Tennessee 37371
.
Send comments to the Honorable John Proffitt, Mayor, City of Athens, 815 North Jackson Street, Athens, Tennessee 37371.
Unincorporated Areas of Baltimore County, Maryland
Dead Run | Approximately 180 feet upstream of Gwynn Oak Avenue | +336 | +337 | Baltimore County (Unincorporated Areas).
| Approximately 726 feet upstream of Dogwood Road | None | +427
Tributary No. 1 to Dead Run | At the confluence with Dead Run | +351 | +356 | Baltimore County (Unincorporated Areas).
| Approximately 500 feet upstream of I-695 | None | +395
Tributary No. 3 to Dead Run | At the confluence with Dead Run | +386 | +388 | Baltimore County (Unincorporated Areas).
| Approximately 400 feet upstream of Kennicott Road | None | +410
* National Geodetic Vertical Datum.
# Depth in feet above ground.
+North American Vertical Datum.
ADDRESSES
Baltimore County (Unincorporated Areas)
Maps are available for inspection at the Baltimore County Office Building, 111 West Chesapeake Avenue, Room 307, Towson, Maryland.
Send comments to Mr. James T. Smith, Jr., Baltimore County Executive, 400 West Washington Avenue, Towson, Maryland 21204.

(Catalog of Federal Domestic Assistance No. 83.100, “Flood Insurance.”)

Dated: November 30, 2006.
David I. Maurstad,
Director, Mitigation Division, Federal Emergency Management Agency, Department of Homeland Security.

[FR Doc. E6-20790 Filed 12-6-06; 8:45 am]

BILLING CODE 9110-12-P